DEPARTMENT OF HEALTH AND HUMAN SERVICES

National Institutes of Health

National Library of Medicine; Notice of Meeting

Pursuant to section 10(a) of the Federal Advisory Committee Act, as amended (5 U.S.C. App.), notice is hereby given of the following meeting.

The meeting will be open to the public, with attendance limited to space available. Individuals who plan to attend and need special assistance, such as sign language interpretation or other reasonable accommodations, should notify the Contact Person listed below in advance of the meeting.

Name of Committee: National Library of Medicine Special Emphasis Panel.

Date: February 17, 2010.

Time: 12 p.m. to 2 p.m.

Agenda: To provide concept review of proposed grant applications.

Place: National Library of Medicine, 6705 Rockledge Drive, Bethesda, MD 20817. (Telephone Conference Call)

Contact Person: Zoe E. Huang, MD, Scientific Review Officer, Division of Extramural Programs, National Library of Medicine, National Institutes of Health, 6705 Rockledge Drive, Suite 301, MSC 7968, Bethesda, MD 20892-7968, 301-594-4937, huangz©mail.nih.gov.

(Catalogue of Federal Domestic Assistance Program Nos. 93.879, Medical Library Assistance, National Institutes of Health, HHS)

Dated: December 22, 2009.
Jennifer Spaeth,
Director, Office of Federal Advisory Committee Policy.

[FR Doc. E9-30949 Filed 12-30-09; 8:45 am]

BILLING CODE 4140-01-M